DEPARTMENT OF DEFENSE

Office of the Secretary

Federal Advisory Committee; Defense Acquisition University Board of Visitors

AGENCY: Office of the Assistant Secretary of Defense, Defense.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Defense Acquisition University Board of Visitors will meet on September 15, 2010, in Huntsville, AL.

DATES: The meeting will be held on September 15, 2010, from 9 a.m.-2 p.m.

ADDRESSES: The meeting will be held at 7115 Old Madison Pike, Huntsville, AL 35806.

FOR FURTHER INFORMATION CONTACT: Christen Goulding, Protocol Director, DAU, Phone: 703-805-5134, Fax: 703-805-5940, E-mail: christen.goulding@dau.mil.

Committee's Designated Federal Officer or Point of Contact: Ms. Kelley Berta, 703-805-5412.

SUPPLEMENTARY INFORMATION: Due to internal DoD difficulties, beyond the control of the Defense Acquisition University Board of Visitors or its Designated Federal Officer, the Government was unable to process the Federal Register notice for the September 15, 2010 meeting of the Defense Acquisition University Board of Visitors as required by 41 CFR 102-3.150(a). Accordingly, the Advisory Committee Management Officer for the Department of Defense, pursuant to 41 CFR 102-3.150(b), waives the 15-calendar day notification requirement.

Purpose of the Meeting

The purpose of this meeting is to report back to the BoV on continuing items of interest.

Agenda

9 a.m. Welcome and approval of minutes.

9:10 a.m. DAU South Region Highlights.

9:45 a.m. Services Acquisition Training.

10:30 a.m. Contingency Contracting Testimony.

11:15 a.m. Facilities Tour of DAU South Region Campus.

12:15 p.m. DAU Strategic Planning Discussion Open Forum.

Public's Accessibility to the Meeting

Pursuant to 5 U.S.C. 552b and 41 CFR 102-3.140 through 102-3.165, and the availability of space, this meeting is open to the public. However, because of space limitations, allocation of seating will be made on a first-come, first served basis. Persons desiring to attend the meeting should call Ms. Christen Goulding at 703-805-5134.

Dated: September 10, 2010.
Mitchell S. Bryman,
Alternate OSD Federal Register Liaison Officer, Department of Defense.

[FR Doc. 2010-23005 Filed 9-14-10; 8:45 am]

BILLING CODE 5001-06-P